DEPARTMENT OF DEFENSE

Department of the Air Force

Notice of Intent To Grant an Exclusive Patent License

Pursuant to the provisions of Part 404 of Title 37, Code of Federal Regulations (CFR), which implements Public Law 96-517, the Department of the Air Force announces its intention to grant Science Applications International Corporation, a company having its headquarters in San Diego, CA, an exclusive license in any right, title and interest the Air Force has in: U.S. Patent No. 5,942,157. A co-inventor, Wade W. Adams, was a government employee at the time of invention. The invention is entitled “Switchable Volume Hologram Materials and Devices.”

The license described above will be granted unless an objection, together with a request for an opportunity to be heard, if desired, is received in writing by the addressee set forth below within 60 days from the date of publication of this Notice. Information concerning the application may be obtained, on request, from the same addressee.

All communications concerning this Notice should be sent to Mr. Randy Heald, Associate General Counsel (Acquisition), SAF/GCQ, 1500 Wilson Blvd., Suite 304, Arlington, VA 22209-2310. Mr. Heald can be reached by telephone at 703-588-5091 or by fax at 703-588-8037.

Janet A. Long,
Federal Register Liaison Officer.

[FR Doc. 00-7517 Filed 3-27-00; 8:45 am]

BILLING CODE 5001-05-P